DEPARTMENT OF AGRICULTURE

Food and Nutrition Service

Agency Information Collection Activities: Proposed Collection: Comment Request: FNS-583, Food Stamp Program Employment and Training Program Activity Report

AGENCY: Food and Nutrition Service, USDA.

ACTION: Notice.

SUMMARY: In accordance with the Paperwork Reduction Act, this notice invites the general public and other public agencies to comment on a proposed revision to the information collection burden for the Food Stamp Program Employment and Training Program, currently approved under OMB No. 0584-0339. This notice proposes to add 10.23 hours to the currently approved burden to account for the time it takes State agencies to request more funds after initial allocations are made.

DATES: Written comments must be submitted on or before January 11, 2005.

ADDRESSES: The Food and Nutrition Service invites interested persons to submit comments on this proposed information collection. Send comments to Dale Walton, Program Analyst, Program Design Branch, Program Development Division, FSP, FNS, 3101 Park Center Drive, Room 810, Alexandria, Virginia 22302-1594, (703) 305-2432.

Comments are invited on: (a) Whether the proposed revision is necessary for the proper performance of the functions of the agency, including whether the information will have practical utility; (b) the accuracy of the agency's estimate of burden of the proposed collection of information, including validity of the methodology and assumptions used; (c) ways to enhance the quality, utility, and clarity of the information to be collected; and (d) ways to minimize the burden of the collection of information on those who are to respond, including through the use of appropriate automated, electronic, mechanical, or other technological collection techniques or other form of information technology.

All responses to this notice will be summarized and included in the request for OMB approval. All comments will also become a matter of public record.

FOR FURTHER INFORMATION CONTACT: Dale Walton at (703) 305-2432, or send e-mail to dale.walton@fns.usda.gov via the Internet.

SUPPLEMENTARY INFORMATION: Title of Information Collection: FNS-583, Employment and Training Program Activity Report.

OMB Number: 0584-0339.

Expiration Date: June 30, 2005.

Type of Request: Revision of a currently approved collection.

Abstract: 7 CFR 273.7(c)(8) requires State agencies to submit quarterly Employment and Training (E&T) Program Activity Reports containing monthly figures for participation in the program. The Food and Nutrition Service (FNS) uses Form FNS-583 to collect participation data. The information collected on the FNS-583 report includes:

• On the first quarter report, the number of work registrants receiving food stamps as of October 1 of the new fiscal year;

• On each quarterly report, by month, the number of new work registrants; the number of able-bodied adults without dependents (ABAWDs) applicants and recipients participating in qualifying components; the number all other applicants and recipients (including ABAWDs involved in non-qualifying activities participating in components; and the number of ABAWDs exempt under the State agency's 15% exemption allowance.

• On the fourth quarter report, the total number of individuals who participated in each component, which is also sorted by ABAWD and non-ABAWD participants, and the number of individuals who participated in the E&T Program during the fiscal year.

7 CFR 273.7(d)(1)(i)(F) provides that if a State agency will not expend all of the funds allocated to it for a fiscal year, FNS will reallocate unexpended funds to other State agencies during the fiscal year or the subsequent fiscal year as FNS considers appropriate and equitable. After initial E&T allocations are made, State agencies may request more funds, as needed. Typically, FNS receives nine such requests per year. The burden is being revised by adding 10.23 hours to it to account for the time it takes States to prepare these requests. After receiving the State requests FNS will reallocate unexpended funds as provided above. Following is the revised estimated burden for E&T reporting including the burden for State agencies to request additional funds.

Current FNS-583 Report

Reporting

Frequency: The FNS-583 report must be completed and submitted to FNS on a quarterly basis by the 45th day following the end of the quarter.

Affected Public: State governments.

Number of Respondents: 53.

Number of Responses: 212.

Estimated Time per Response: 106.3 hours per State agency.

Estimated Total Annual Reporting Burden: 22,538 hours.

Recordkeeping

Number of Respondents: 53.

Number of Records: 212.

Number of Hours per Record: 0.137 hours.

Estimated Total Annual Recordkeeping Burden: 29 hours.

Requests for Additional Funds

Reporting

Frequency: Requests for additional funds are made on an as needed basis.

Affected Public: State governments.

Number of Respondents: 53.

Number of Responses: 9.

Estimated Time per Response: 1 hour per request.

Estimated Total Annual Reporting Burden: 9 hours.

Recordkeeping

Number of Respondents: 53.

Number of Records: 9.

Number of Hours per Record: 0.137 hours.

Estimated Total Annual Recordkeeping Burden: 1.23 hours.

Total Annual Reporting and Recordkeeping Burden: 22,577.23 hours.

Dated: October 27, 2004.
Roberto Salazar,
Administrator, Food and Nutrition Service.

[FR Doc. 04-25175 Filed 11-10-04; 8:45 am]

BILLING CODE 3410-30-P